DEPARTMENT OF JUSTICE

Antitrust Division

Notice Pursuant to the National Cooperative Research and Production Act of 1993—Origen Therapeutics, Inc./Embrex, Inc.

Notice is hereby given that, on October 23, 2001, pursuant to section 6(a) of the National Cooperative Research and Production Act of 1993, 15 U.S.C. 4301 et seq. (“the Act”), Origen Therapeutics, Inc./Embrex, Inc. has filed written notifications simultaneously with the Attorney General and the Federal Trade Commission disclosing (1) the identifies of the parties and (2) the nature and objectives of the venture. The notifications were filed for the purpose of invoking the Act's provisions limiting the recovery of antitrust plaintiffs to actual damages under specified circumstances. Pursuant to section 6(b) of the Act, the identifies of the parties are Origen Therapeutics, Inc., Burlingame, CA; and Embrex, Inc., Research Triangle Park, NC. The nature and objectives of the venture are to conduct research on the use of avian embryonic stem cell technology, coupled with automated egg injection technology to form highly chimeric poultry. The activities of this joint venture will be partially funded by an award from the Advanced Technology Program, National Institute of Standards and Technology, Department of Commerce.

Constance K. Robinson,
Director of Operations, Antitrust Division.

[FR Doc. 02-98 Filed 1-2-02; 8:45 am]

BILLING CODE 4410-11-M